DEPARTMENT OF HOMELAND SECURITY

Coast Guard

33 CFR Part 165

[Docket Number USCG-2024-0205]

RIN 1625-AA11

Regulated Navigation Area; Port of Miami, Miami, FL

AGENCY: Coast Guard, DHS.

ACTION: Notice of inquiry.

SUMMARY: The Coast Guard is seeking information and comments on a potential regulated navigation area for certain waters surrounding the Port of Miami. The current proposal in consideration would establish a slow speed zone throughout Fisherman's Channel and the Main Ship Channel for vessels less than 150 meters in length. We invite your comments on this proposed rulemaking.

DATES: Comments and related material must be received by the Coast Guard on or before May 13, 2024.

ADDRESSES: You may submit comments identified by docket number USCG-2024-0205 using the Federal Decision-Making Portal at https://www.regulations.gov. See the “Public Participation and Request for Comments” portion of the SUPPLEMENTARY INFORMATION section for further instructions on submitting comments.

FOR FURTHER INFORMATION CONTACT: If you have questions about this notice or study, call or email Mr. David Lieberman, Seventh Coast Guard District (dpw), U.S. Coast Guard; telephone (571) 608-3465, email David.L.Lieberman2@uscg.mil.

SUPPLEMENTARY INFORMATION:

I. Table of Abbreviations

CFR Code of Federal Regulations

DHS Department of Homeland Security

FR Federal Register

NOI Notice of Inquiry

§ Section

U.S.C. United States Code

II. Background, Purpose, and Legal Basis

The Captain of the Port (COTP) Miami has determined there has been an increase in navigational risk in certain waterways in proximity to the Port of Miami as the port continues to expand and vessel traffic increases. On May 10th and 11th of 2023, Coast Guard Navigation Center (NAVCEN) and Sector Miami held a Ports and Waterways Safety Assessment (PAWSA) with key local stakeholders. As a result, the workshop identified hazards associated to the port, with the largest concern for navigational safety being the high speed of vessels and wake created by increased vessel traffic. The Coast Guard has received reports of an increasing number of incidents as vessel traffic has increased.

On June 25, 2023, around 3:30 a.m. a recreational vessel traveling at a high rate of speed through the Main ship channel collided with a vehicle ferry. This incident resulted in the loss of life as well as impact to the movement of passenger and cargo vessels in the Port of Miami over a 12-hour period. Additionally, on February 12, 2024, a recreational vessel collied with an inspected passenger vessel in Fisherman's Channel. This incident resulted in 13 injuries. With the creation of a regulated navigation area the Coast Guard intends to reduce the navigational risk associated with high-speed vessel operations in a densely trafficked waterway.

In addition to these incidents, the Port of Miami is expanding its cruise ship terminals and expects vessel and passenger throughput increases over the next several years. This increase in passenger service, accompanied by an increase in Liquified Natural Gas (LNG) bunkering operations in the port introduce a new set of operational risks in the area.

These risks, in combination with the criticality of this port to the local and regional economy, form the basis for evaluation of additional measures to enhance navigation safety. The establishment of a regulated navigation area is expected to promote improvements to vessel traffic management, reduce high speed operations and enhance navigation safety. The current proposal in consideration would establish a slow speed restriction on vessels less than 150 meters within the Port of Miami.

III. Information Requested

To aid us in further developing a proposed rule, we seek responses from waterway users to the following questions:

(1) Do you currently transit through Fisherman's Channel or the Main Channel in Biscayne Bay?

(2) How often do you transit this waterway?

(3) Is there a specific part of either channel that you find to be dangerous to navigate in?

(4) Has your vessel or other property ever been damaged as a result of vessel operations in this area?

(5) Is there a specific speed limitation you think would help reduce the risk of transiting through this area?

(6) Is there a specific part of either channel you think should require a reduced speed?

(7) Is there a specific part of either channel you think should not require a reduced speed?

(8) What challenges have you experienced when transiting this area due to increased vessel traffic?

(9) How would a speed restriction impact your ability to safety operate your vessel?

(10) Do you think other measures would be more appropriate than a speed restriction? If so, what measures would you propose?

(11) Are there any other factors you think the Coast Guard should consider before moving forward with this rulemaking?

IV. Public Participation and Request for Comments

We encourage you to submit comments in response to this NOI through the Federal Decision Making Portal at https://www.regulations.gov. To do so, go to https://www.regulations.gov, type USCG-2024-0205 in the search box and click “Search.” Next, look for this document in the Search Results column, and click on it. Then click on the Comment option. In your submission, please include the docket number for this notice of inquiry and provide a reason for each suggestion or recommendation. If your material cannot be submitted using https://www.regulations.gov contact the person in the FOR FURTHER INFORMATION CONTACT section of this document for alternate instructions.

To view documents mentioned in this proposed rule as being available in the docket, find the docket as described in the previous paragraph, and then select “Supporting & Related Material” in the Document Type column. Public comments will also be placed in our online docket and can be viewed by following instructions on the https://www.regulations.gov Frequently Asked Questions web page. We review all comments received, but we may choose not to post off-topic, inappropriate, or duplicate comments that we receive. Additionally, if you go to the online docket and sign up for email alerts, you will be notified when comments are posted or a final rule is published.

We accept anonymous comments. Comments we post to https://www.regulations.gov will include any personal information you have provided. For more about privacy and submissions in response to this document, see DHS's eRulemaking System of Records notice (85 FR 14226, March 11, 2020).

We may hold a public meeting, if necessary, to receive oral comments on this Notice of Inquiry and will announce the date, time, and location in a separate document published in the Federal Register. If you signed up for docket email alerts mentioned in the paragraph above, you will receive an email notice when the public meeting notice is published and placed in the docket.

This document is issued under authority of 5 U.S.C. 552(a) and 46 U.S.C. 70034.

Dated: April 8, 2024.
Nicholas C. Seniuk,
Commander, U.S. Coast Guard, Seventh Coast Guard District Waterways Management.

[FR Doc. 2024-07704 Filed 4-10-24; 8:45 am]

BILLING CODE 9110-04-P